DEPARTMENT OF LABOR

Employment and Training Administration

[TA-W-35,970]

Glenoit Corporation, Jacksboro, Tennessee; Notice of Negative Determination on Reconsideration

On November 15, 1999, the Department issued an Affirmative Determination Regarding Application for Reconsideration applicable to workers of the subject firm. The Union of Needletrades, Industrial and Textile Employees, AFL-CIO, CLC, (UNITE) presented evidence that the Department's survey of the subject firm's customers was incomplete. The notice was published in the Federal Register on November 23, 1999 (64 FR 65728).

The Department initially denied TAA to workers producing fleece fabric at Glenoit Corporation located in Jacksboro, Tennessee, based on the finding that the “contributed importantly” test of the worker group eligibility requirements of Section 222 of the Trade Act of 1974, as amended, was not met. The investigation revealed that the customers responding to a customer survey reported no increase in import purchases of fleece fabric during the relevant time period of the investigation (1997 to 1998 and the first half of 1999 compared to first half of 1998).

At the Department's request, the subject firm identified additional declining customers. On reconsideration, the Department conducted further survey of the subject firm's major declining customers. One respondent reported replacing purchases of fleece fabric from Glenoit with imports. This customer, however, accounted for an insignificant percentage of the subject firm's sales decline. Other respondents to the survey reported no import purchases of fleece fabric like or directly competitive with that produced by the workers of the firm.

Conclusion

After reconsideration, I affirm the original notice of negative determination of eligibility to apply for worker adjustment assistance for workers and former workers of Glenoit Corporation, Jacksboro, Tennessee.

Signed at Washington, DC, this 2nd day of February 2000.
Grant D. Beale,
Program Manager, Division of Trade Adjustment Assistance.

[FR Doc. 00-3503 Filed 2-14-00; 8:45 am]

BILLING CODE 4510-30-M